DEPARTMENT OF ENERGY

U.S. Energy Information Administration

Proposed Agency Information Collection

AGENCY: U.S. Energy Information Administration (EIA), Department of Energy (DOE).

ACTION: Agency Information Collection Activities: Proposed Collection; Notice and Request for Comments.

SUMMARY: EIA invites public comment on the proposed collection of information for the new Form EIA-915, “Monthly Gas Processing and Liquids Report” that EIA is developing for submission to the Office of Management and Budget (OMB) pursuant to the Paperwork Reduction Act of 1995. This new form would replace Form EIA-64A, Annual Report of the Origin of Natural Gas Liquids, and Form EIA-816, Monthly Natural Gas Liquids Report, as well as obtain crucial data elements that were lost with the recent termination of the Form EIA-895, Annual Quantity and Value of Natural Gas Production Report.

With the implementation of the proposed Form EIA-915, the Form EIA-816 will be terminated on Jan 31, 2013 (after collecting monthly data for December 2012), and Form EIA-64A will be terminated in 2014 (after collecting annual data for 2012).

Comments are invited on: (a) Whether the proposed collection of information is necessary for the proper performance of the functions of the agency, including whether the information shall have practical utility; (b) The accuracy of the agency's estimate of the burden of the proposed collection of information, including the validity of the methodology and assumptions used; (c) ways to enhance the quality, utility, and clarity of the information to be collected; and (d) ways to minimize the burden of the collection of information on respondents, including through the use of automated collection techniques or other forms of information technology.

DATES: Comments regarding this proposed information collection must be received on or before October 1, 2012. If you anticipate difficulty in submitting comments within that period, contact the person listed in the below ADDRESSES Section as soon as possible.

ADDRESSES: Written comments may be sent to Jeffrey Little, EI-24, U.S. Energy Information Administration, U.S. Department of Energy, 1000 Independence Avenue SW., Washington, DC 20585, or by fax at (202) 586-4420, or by email at jeffrey.little@eia.gov. Alternatively, Mr. Little may be contacted by telephone at (202) 586-6284.

FOR FURTHER INFORMATION CONTACT: Requests for additional information or copies of the information collection instrument and instructions should be directed to Jeffrey Little at the address listed above. The collection instrument and instructions are also available on the internet at: http://www.eia.gov/survey/form/eia_915/proposed/form.pdf.

SUPPLEMENTARY INFORMATION: This information collection request contains:

(1) OMB No.: NEW;

(2) Information Collection Request Title: Monthly Gas Processing and Liquids Report;

(3) Type of Request: Proposed collection;

(4) Purpose: To improve data collection efficiency, EIA proposes a new collection form that is a combination of the Form EIA-64A, Annual Report of the Origin of Natural Gas Liquids, Form EIA-816, Monthly Natural Gas Liquids Report, and Form EIA-895, Annual Quantity and Value of Natural Gas Production Report. The proposed new Form EIA-915 will collect inlet data on natural gas volumes, the final disposition of all plant products including fuel and non-hydrocarbons, and end-of-month plant liquid stocks from natural gas processing plants and fractionators. The data collected are used to obtain an accurate estimate of production of marketed natural gas, dry natural gas, and natural gas plant liquids by geographic region. A summary of the data will appear in the following EIA publications: Natural Gas Monthly, Natural Gas Annual, Petroleum Supply Monthly, Monthly Energy Review, Annual Energy Review, the Annual Energy Outlook, and the EIA Web site.

The proposed Form EIA-915 will supply crucial data elements from the terminated EIA-895, Annual Quantity and Value of Natural Gas Production Report, and Form EIA-64A, Annual Report of the Origin of Natural Gas Liquids, and Form EIA-816, Monthly Natural Gas Liquids Report. The Form EIA-895 was designed to obtain monthly information on an annual basis from the appropriate state agencies that collect data related to natural gas production. The decision to terminate the EIA-895 form was due to data quality reporting: given that the EIA-895 form was a voluntary survey and the data was requested from state agencies, issues such as the disparity in the quality of the data and the difficulty enforcing the survey became increasingly problematic. Some of the examples of data quality and enforcement issues include: state data collection of natural gas production volumes were often not complete on the due date (90 days after the end of the report year: March 31) and remained incomplete for as many as 14 months past the deadline; components of natural gas gross and marketed production and natural gas lease fuel use that were requested on the form were not collected by all states; comparisons among components collected and published on the form were difficult to compare because states and EIA definitions were not identical; and EIA cannot legally require states to submit a voluntary form.

To avoid the unacceptable loss of data from the termination of the Form EIA-895, the new Form EIA-915 is proposed to include information from this form and to also efficiently consolidate the Forms EIA-64A and EIA-816. The EIA-915 form will collect data from the universe of facilities that extract liquid hydrocarbons from a natural gas stream (i.e., natural gas processing plants) and/or separate a liquid hydrocarbon stream into its component products (i.e., fractionators). In addition, gas sweetening plants (plants that extract CO2, H2S, sulfur, etc.) will be required to submit this form. Approximately 550 respondents will be included in the sample survey frame for the Form EIA-915.

With the forms consolidated, EIA will provide monthly marketed and dry natural gas production values for Texas, Louisiana, Oklahoma, Wyoming, the Federal offshore Gulf of Mexico, Other States, and Alaska. Monthly Gross production values for these EIA-defined geographical regions would continue to be populated from the EIA-914, Monthly Natural Gas Production Report. On an annual basis EIA will provide gross, marketed, and dry natural gas production values for the 31 producing states. Information currently collected on forms EIA-64A and EIA-816 will be available from Form EIA-915.

The information requested on the Form EIA-915 must be provided on a monthly basis within 20 days after the end of the report period (e.g., the form EIA-915 covering the January 2013 report period must be received by February 20, 2013). When the 20th day of a calendar month falls on a weekend or national holiday, the reports are to be filed by the next business day. Previously, the information requested on the Form EIA-895 was due by the 90th day after the end of the report year (March 31), Form EIA 64A information was due by April 11 following the end of the calendar year, and Form 816 information was due within 20 days of the end of the report period.

Pending authorization to administer the proposed new form, EIA has terminated the EIA-895. Thus, the following items will no longer be collected: gas well gas, oil well gas, coalbed methane wells, shale gas, gross withdrawals, repressured gas, natural gas vented and flared, nonhydrocarbon gases removed, marketed production, natural gas used as fuel on leases, wellhead price, and number of producing gas wells. However, through the EIA-914 and the new form EIA-915 the following products will be made accessible with caveats:

• Total gross withdrawals: The monthly data will be supplied from the EIA-914

• Total dry production: The monthly data will be provided by a calculation from the EIA-914 and EIA-915 as follows:

Form EIA-914 will provide natural gas lease production

Form EIA-915 will provide the total plant intake and natural gas sent to transmission lines (pipelines)

The actual value of the dry natural gas production will have two steps:

1. The difference of subtracting natural gas lease production from the total plant inlet will result in pipeline quality gas that does not require processing

2. The value of total natural gas sent to a transmission lines (pipelines) will be added to pipeline quality gas resulting in dry production

• Total marketed production is calculated by adding together the dry production value and the extraction loss value

Better quality data should result in the new form, because dry production will be calculated as a result of metered production from the EIA-915 and EIA-914 (Note, the EIA-914 value is estimated from a statistical sample). All data elements collected from the Form EIA-816 are to be transferred to the Form EIA-915. Form EIA-64A elements will also be collected through the Form EIA-915 with the addition of data elements such as:

Volume of Natural Gas Intake Processed

• Gas Received from Operators and Gas Gatherers Within a Processor's State Boundaries

• Gas Received From Other Processing Plants (provide the plant and state where the gas was previously processed)

Disposition of Plant Intake

• Plant Outlet (from plant meters)

• Extraction Loss

• Non-Hydrocarbons

• Vented and Flared Hydrocarbon Gas from the Processing Plant

Disposition of Plant Outlet

• Repressuring/Cycled

• Returned For Lease Fuel

• Natural Gas Sent to Fractionators for Fuel Use

• Delivered To Other Process Plant

• Transmission Line

Form EIA-915 is mandatory and must be completed by the operators of ALL facilities that extract liquid hydrocarbons from a natural gas stream (natural gas processing plants) and/or separate a liquid hydrocarbon stream into its component products (fractionators). In addition, gas sweetening plants (plants that extract CO2, H2S, sulfur, etc.) will be required to submit this form.

EIA proposes that company-identifiable data from Form EIA-915 be released to the public in order to meet increasing data user needs for more company-level data. (Currently, 10 states release the gas plant data for free, while Bentek Energy releases the data for a fee.) EIA also proposes that the survey frame administrative data (e.g., company's name, county) from the EIA-915 be available to the public. This information can currently be obtained free on 10 states agencies' Web pages, the Office of Natural Resources Revenue, or for a fee from Bentek Energy and Sulpetro Inc.;

(5) Annual Estimated Number of Respondents: 550 monthly respondents;

(6) Annual Estimated Number of Total Responses: 6,660 responses on an annual basis;

(7) Annual Estimated Number of Burden Hours: 13,200;

(8) Annual Estimated Reporting and Recordkeeping Cost Burden: No additional costs beyond burden hours are anticipated from the proposed new collection instrument.

Statutory Authority: Section 13(b) of the Federal Energy Administration Act of 1974, Pub. L. 93-275, codified at 15 U.S.C. 772(b).

Issued in Washington, DC, July 26, 2012.
Richard Reeves,
Acting Director, Office of Survey Development and Statistical Integration, U. S. Energy Information Administration.

[FR Doc. 2012-18751 Filed 7-31-12; 8:45 am]

BILLING CODE 6450-01-P